DEPARTMENT OF COMMERCE

International Trade Administration

[A-552-802]

Certain Frozen Warmwater Shrimp From the Socialist Republic of Vietnam: Preliminary Results, Partial Rescission, and Preliminary Determination of No Shipments of Antidumping Duty Administrative Review; 2021-2022

AGENCY: Enforcement and Compliance, International Trade Administration, Department of Commerce.

SUMMARY: The U.S. Department of Commerce (Commerce) preliminarily determines that no companies under review qualify for a separate rate and that these companies are, therefore, considered part of the Vietnam-Wide entity. Additionally, Commerce is rescinding this review with respect to Thong Thuan Cam Ranh Seafood Joint Stock Company, T&T Cam Ranh, Soc Trang Seafood Joint Stock Company, STAPIMEX, Seavina Joint Stock Company, and Bien Dong Seafood Co., Ltd. Further, Commerce preliminarily determines that BIM Foods Joint Stock Company, Minh Phu Hau Giang Seafood, Minh Phu Seafood Corporation, and Minh Qui Seafood Co., Ltd. had no shipments of subject merchandise during the period of review (POR). The POR is February 1, 2021, through January 31, 2022. Interested parties are invited to comment on these preliminary results.

DATES: Applicable January 3, 2023.

FOR FURTHER INFORMATION CONTACT: Irene Gorelik, AD/CVD Operations, Office VIII, Enforcement and Compliance, International Trade Administration, U.S. Department of Commerce, 1401 Constitution Avenue NW, Washington, DC 20230; telephone: (202) 482-6905.

SUPPLEMENTARY INFORMATION:

Background

On February 8, 2022, Commerce published a notice of opportunity to request an administrative review of the antidumping duty (AD) order on certain frozen warmwater shrimp (shrimp) from the Socialist Republic of Vietnam (Vietnam).¹ Commerce received timely requests for an administrative review from Ad Hoc Shrimp Trade Action Committee (the petitioner), the American Shrimp Processors Association (ASPA) (domestic processors), and numerous Vietnamese companies. On April 12, 2022, Commerce published in the Federal Register a notice of initiation of an administrative review of the antidumping duty order on shrimp from Vietnam for the period February 1, 2021, through January 31, 2022, covering 106 companies, including multiple companies with name variations/abbreviations, in accordance with section 751(a) of the Tariff Act of 1930, as amended (the Act) and 19 CFR 351.221(c)(1)(i).²

¹ See Antidumping or Countervailing Duty Order, Finding, or Suspended Investigation; Opportunity to Request Administrative Review, 87 FR 7112 (February 8, 2022).

² See Initiation of Antidumping and Countervailing Duty Administrative Reviews, 87 FR 21619 (April 12, 2022) (Initiation Notice).

On April 13, 2022, the petitioner and ASPA both filed timely withdrawals of their respective review requests of Soc Trang Seafood Joint Stock Company and STAPIMEX.³ On April 13, 2022, Soc Trang Seafood Joint Stock Company also withdrew its review request.⁴ On April 22, 2022, Thong Thuan Cam Ranh Seafood Joint Stock Company withdrew its review request.⁵ Also on April 22, 2022, ASPA withdrew its review request of Thong Thuan Cam Ranh Seafood Joint Stock Company and T&T Cam Ranh.⁶ On April 26, 2022, the petitioner and ASPA also filed timely withdrawals of their respective review requests of Seavina Joint Stock Company and Bien Dong Seafood Co., Ltd.⁷ Therefore, Commerce is rescinding its review of: (1) Thong Thuan Cam Ranh Seafood Joint Stock Company; (2) T&T Cam Ranh; (3) Soc Trang Seafood Joint Stock Company; (4) STAPIMEX; (5) Seavina Joint Stock Company; and (6) Bien Dong Seafood Co., Ltd., as discussed below.

³ See Petitioner's Letter, “Domestic Producers' Partial Withdrawal of Review Requests,” dated April 13, 2022; and ASPA's Letter, “American Shrimp Processors Association's Supplemental Partial Withdrawal of Review Requests,” dated April 13, 2022.

⁴ See Soc Trang Seafood Joint Stock Company's Letter, “Withdrawal of Request for Review,” dated April 13, 2022.

⁵ See Akin Gump's Letter, “Withdrawal of Review Request—Thong Thuan Cam Ranh Seafood Joint Stock Company (T&T Cam Ranh),” dated April 22, 2022.

⁶ See ASPA's Letters, “American Shrimp Processors Association's Supplemental Partial Withdrawal of Review Requests,” both dated April 22, 2022. ASPA initially filed a letter withdrawing its review request of only Thong Thuan Cam Ranh Seafood Joint Stock Company, and subsequently, filed a second letter withdrawing its review request of T&T Cam Ranh, a known trade name of Thong Thuan Cam Ranh Seafood Joint Stock Company, for which ASPA also initially requested review.

⁷ See Petitioner's Letter, “Domestic Producers' Partial Withdrawal of Review Requests,” dated April 26, 2022; and ASPA's Letter, “American Shrimp Processors Association's Supplemental Partial Withdrawal of Review Requests,” dated April 26, 2022.

On May 9 and 12, 2022, three companies identified in the U.S. Customs and Border Protection (CBP) data as having entries of subject merchandise during the POR filed timely separate rate applications.⁸ On June 2, 2022, we selected Quang Minh Seafood Co., Ltd. for individual examination pursuant to section 777A(c)(2) of the Act.⁹ On September 19, 2022, Safe and Fresh Aquatic Products Joint Stock Company, one of the non-selected companies seeking a separate rate, withdrew from the administrative review.¹⁰ On September 30, 2022, Commerce extended the deadline for the preliminary results by 100 days to February 8, 2023.¹¹

⁸ See Akin Gump's Letters, “Separate Rate Applications,” dated May 9, 2022 (under separate cover for Quang Minh Seafood Limited Liability Company and Ngoc Trinh Bac Lieu Seafood Co., Ltd); and “Separate Rate Applications,” May 12, 2022 (covering Safe and Fresh Aquatic Products Joint Stock Company).

⁹ See Memorandum, “Respondent Selection,” dated June 2, 2022.

¹⁰ See Safe and Fresh Aquatic Products Joint Stock Company's Letter, “Withdrawal of Safe and Fresh from Administrative Review,” dated September 19, 2022.

¹¹ See Memorandum, “Extension of Deadline for Preliminary Results of Antidumping Duty Administrative Review,” dated September 30, 2022.

On October 18, 2022, Quang Minh Seafood Co., Ltd., the mandatory respondent, withdrew from the administrative review.¹² On November 4, 2022, consistent with section 777(A)(c)(2) of the Act, we selected the remaining company under review that was eligible for individual examination, Ngoc Trinh Bac Lieu Seafood Co., Ltd., as a mandatory respondent.¹³ On November 15, 2022, Ngoc Trinh Bac Lieu Seafood Co., Ltd. also withdrew from the administrative review.¹⁴ Commerce did not select any further mandatory respondents because all companies that were eligible for individual examination had withdrawn from the administrative review, as discussed above.

¹² See Quang Ming Seafood Co., Ltd.'s Letter, “Withdrawal from Administrative Review,” dated October 18, 2022.

¹³ See Memorandum, “Second Respondent Selection,” dated November 4, 2022.

¹⁴ See Ngoc Trinh Bac Lieu Seafood Co., Ltd.'s Letter, “Withdrawal from Administrative Review,” dated November 15, 2022.

Scope of the Order ¹⁵

¹⁵ See Notice of Amended Final Determination of Sales at Less Than Fair Value and Antidumping Duty Order: Certain Frozen Warmwater Shrimp from the Socialist Republic of Vietnam, 70 FR 5152 (February 1, 2005) (Order).

The merchandise subject to the Order is certain frozen warmwater shrimp. The product is currently classified under the following Harmonized Tariff Schedule of the United States (HTSUS) item numbers: 0306.17.0004, 0306.17.0005, 0306.17.0007, 0306.17.0008, 0306.17.0010, 0306.17.0011, 0306.17.0013, 0306.17.0014, 0306.17.0016, 0306.17.0017, 0306.17.0019, 0306.17.0020, 0306.17.0022, 0306.17.0023, 0306.17.0025, 0306.17.0026, 0306.17.0028, 0306.17.0029, 0306.17.0041, 0306.17.0042, 1605.21.10.30, and 1605.29.10.10. Although the HTSUS numbers are provided for convenience and for customs purposes, the written product description, provided in Appendix I, remains dispositive.

Partial Rescission of Review

Pursuant to 19 CFR 351.213(d)(1), Commerce will rescind an administrative review, in whole or in part, if the party that requested the review withdraws its request within 90 days of the publication of the notice of initiation of the requested review. Because all requests for administrative review of: (1) Bien Dong Seafood Co., Ltd.; (2) Seavina Joint Stock Company; (3) Soc Trang Seafood Joint Stock Company; (4) STAPIMEX; (5) Thong Thuan Cam Ranh Seafood Joint Stock Company; and (6) T&T Cam Ranh were withdrawn by interested parties within 90 days of the date of publication of the Initiation Notice, and no other interested party requested a review of them, Commerce is rescinding this review with respect to these companies and their name variations/abbreviations, in accordance with 19 CFR 351.213(d)(1). Commerce will instruct CBP to assess antidumping duties on all appropriate entries at a rate equal to the cash deposit of estimated antidumping duties required at the time of entry, or withdrawal from warehouse, for consumption, during the period February 1, 2021, through January 31, 2022, in accordance with 19 CFR 351.212(c)(1)(i). Commerce intends to issue appropriate assessment instructions to CBP 35 days after the publication of this notice in the Federal Register.

The administrative review remains active with respect to 100 companies.

Preliminary Determination of No Shipments

Commerce received timely no-shipment certifications from four companies: (1) BIM Foods Joint Stock Company; (2) Minh Phu Hau Giang Seafood (3) Minh Phu Seafood Corporation and (4) Minh Qui Seafood Co., Ltd.¹⁶ To confirm these companies' no-shipment claims,¹⁷ Commerce issued a no-shipment inquiry to CBP and received no contradictory information.¹⁸ Therefore, we preliminarily determine that these four companies did not have any shipments of subject merchandise during the POR. Consistent with Commerce's practice, we will not rescind the review with respect to these companies, but rather, will complete the review and issue instructions based on the final results.¹⁹

¹⁶ As stated in the Initiation Notice, shrimp produced and exported by Minh Phu Hau Giang Seafood, Minh Phu Seafood Corporation, and Minh Qui Seafood Co., Ltd., among others, were excluded from the Order effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, this review was initiated for these three exporters only with respect to subject merchandise produced by another entity. See Initiation Notice, 87 FR at 21637 (footnotes 8 through 10).

¹⁷ See BIM Foods Joint Stock Company's Letter, “No Shipments Certification,” dated April 12, 2022; see also Minh Phu Group's Letter, “Notice of No Shipments,” dated May 11, 2022 (covering all companies identified within the Minh Phu Group, which includes the following companies listed in the Initiation Notice: Minh Phu Hau Giang Seafood; Minh Phu Seafood Corporation; and Minh Qui Seafood Co., Ltd).

¹⁸ See Memorandum, “No Shipment Inquiry,” dated September 6, 2022 (where CBP confirmed that it found no entries by BIM Foods Joint Stock Company; and Minh Phu Hau Giang Seafood, Minh Phu Seafood Corporation, and Minh Qui Seafood Co., Ltd).

¹⁹ See Non-Market Economy Antidumping Proceedings: Assessment of Antidumping Duties, 76 FR 65694 (October 24, 2011) (NME AD Assessment); see also “Assessment Rates” section, infra.

Methodology

Commerce is conducting this review in accordance with section 751(a)(1)(B) of the Act. Because the two mandatory respondents and a non-selected separate rate company in this administrative review did not respond to Commerce's requests for information, but rather, withdrew their participation from the review, we preliminarily determine that they are ineligible for a separate rate and are, therefore, part of the Vietnam-Wide entity, subject to the Vietnam-Wide entity rate of 25.76 percent.

Vietnam-Wide Entity

Commerce finds that 96 companies (see Appendix II) under review, including Quang Minh Seafood Co., Ltd., Safe and Fresh Aquatic Products Joint Stock Company, and Ngoc Trinh Bac Lieu Seafood Co., Ltd., have not established eligibility for a separate rate and are considered to be part of the Vietnam-wide entity for these preliminary results.²⁰ Commerce's policy regarding conditional review of the Vietnam-wide entity applies to this administrative review.²¹ Under this policy, the Vietnam-wide entity will not be under review unless a party specifically requests, or Commerce self-initiates, a review of the entity. Because no party requested a review of the Vietnam-wide entity, the entity is not under review and the entity's rate of 25.76 percent is not subject to change.

²⁰ See Jilin Forest Indus. Jinqiao Flooring Grp. Co. v. United States, 519 F. Supp. 3d 1224, 1241 (CIT 2021) (affirming how a company is “unable to carry its burden of affirmatively showing lack of de jure and de facto control by the Chinese government, because the remaining public information on the record {does} not include verifiable evidence that would be necessary to establish the {company's} eligibility for a separate rate.”)

²¹ See Antidumping Proceedings: Announcement of Change in Department Practice for Respondent Selection in Antidumping Duty Proceedings and Conditional Review of the Nonmarket Economy Entity in NME Antidumping Duty Proceedings, 78 FR 65963 (November 4, 2013).

Preliminary Results of Review

Commerce finds that because the two mandatory respondents did not respond to our requests for information, but rather, withdrew from the review, they have not established eligibility for a separate rate. Based on the above information, Commerce has not calculated any dumping margins for any companies under review, nor has Commerce granted separate rates to any companies under review. As discussed above, Commerce has preliminarily determined that the remaining 96 companies under review, including the two mandatory respondents and a non-selected company seeking a separate rate, are part of the Vietnam-wide entity, and are subject to the Vietnam-wide entity rate of 25.76 percent (see appendix II).

Disclosure and Public Comment

Normally, Commerce will disclose the calculations used in our analysis to parties in this review within five days of the date of publication of the notice of preliminary results in the Federal Register, in accordance with 19 CFR 351.224(b). However, here Commerce has only preliminarily applied the Vietnam-Wide rate, which was established in the underlying investigation,²² to the 96 companies identified in appendix II. Thus, there are no calculations to disclose.

²² See Final Determination of Sales at Less Than Fair Value: Certain Frozen and Canned Warmwater Shrimp from the Socialist Republic of Vietnam, 69 FR 71005, 71008 (December 8, 2004), and accompanying Issues and Decision Memorandum at Comments 6 and 10C (“we have applied a rate of 25.76 percent, a rate calculated in the initiation stage of the investigation from information provided in the petition . . . .”).

Interested parties may submit case briefs no later than 30 days after the date of publication of this notice.²³ Rebuttal briefs, the content of which is limited to the issues raised in the case briefs, must be filed within seven days from the deadline date for the submission of case briefs.²⁴ Parties who submit case or rebuttal briefs in this proceeding are requested to submit with each argument: (1) a statement of the issue; (2) a brief summary of the argument; and (3) a table of authorities.²⁵ Case and rebuttal briefs should be filed electronically via ACCESS. Note that Commerce has temporarily modified certain of its requirements for serving documents containing business proprietary information, until further notice.²⁶

²³ See 19 CFR 351.309(c)(1)(ii).

²⁴ See 19 CFR 351.309(d)(1) and (2); see also Temporary Rule Modifying AD/CVD Service Requirements Due to COVID-19, 85 FR 17006 (March 26, 2020) (“To provide adequate time for release of case briefs via ACCESS, E&C intends to schedule the due date for all rebuttal briefs to be 7 days after case briefs are filed (while these modifications remain in effect).”

²⁵ See 19 CFR 351.309(c)(2) and (d)(2).

²⁶ See Temporary Rule Modifying AD/CVD Service Requirements Due to COVID19; Extension of Effective Period, 85 FR 41363 (July 10, 2020).

Pursuant to 19 CFR 351.310(c), interested parties who wish to request a hearing must submit a written request to the Assistant Secretary for Enforcement and Compliance, filed electronically via ACCESS. An electronically-filed document must be received successfully in its entirety by ACCESS by 5 p.m. eastern time within 30 days after the date of publication of this notice.²⁷ Hearing requests should contain: (1) the party's name, address, and telephone number; (2) the number of participants; (3) whether any participant is a foreign national, and (4) a list of issues to be discussed. Issues raised in the hearing will be limited to issues raised in the briefs. If a request for a hearing is made, Commerce intends to hold the hearing at a time and date to be determined.²⁸

²⁷ See 19 CFR 351.310(c).

²⁸ Id.

Assessment Rates

Pursuant to section 751(a)(2)(A) of the Act and 19 CFR 351.212(b)(1), Commerce will determine, and CBP shall assess, antidumping duties on all appropriate entries of subject merchandise covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

If we continue to find in the final results no shipments for the companies identified in the “Preliminary Determination of No Shipments” section above, Commerce will instruct CBP to liquidate any suspended entries of subject merchandise that entered under those companies' case numbers at the Vietnam-wide rate.²⁹

²⁹ See NME AD Assessment.

For the final results, if we continue to treat the 96 companies identified in Appendix II as part of the Vietnam-wide entity, we will instruct CBP to apply an ad valorem assessment rate of 25.76 percent to all entries of subject merchandise during the POR which were exported by those companies. The final results of this review shall be the basis for the assessment of antidumping duties on entries of merchandise covered by the final results of this review and for future deposits of estimated duties, where applicable.

Cash Deposit Requirements

The following cash deposit requirements will be effective upon publication of the final results of this administrative review for shipments of the subject merchandise from Vietnam entered, or withdrawn from warehouse, for consumption on or after the publication date, as provided by sections 751(a)(2)(C) of the Act: (1) for previously investigated or reviewed Vietnam and non-Vietnam exporters that have separate rates, the cash deposit rate will continue to be the exporter-specific rate established in the most recently completed segment of this proceeding; (2) for all Vietnam exporters of subject merchandise that have not been found to be entitled to a separate rate, the cash deposit rate will be the existing rate for the Vietnam-wide entity of 25.76 percent; and (3) for all non-Vietnam exporters of subject merchandise which have not received their own rate, the cash deposit rate will be the rate applicable to the Vietnam exporter that supplied that non-Vietnam exporter. These deposit requirements, when imposed, shall remain in effect until further notice.

Final Results of Review

Unless otherwise extended, Commerce intends to issue the final results of this administrative review, including the results of its analysis of issues raised by the parties in the written comments, within 120 days of publication of these preliminary results in the Federal Register, pursuant to section 751(a)(3)(A) of the Act and 19 CFR 351.213(h)(1).

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

These preliminary results are issued and published in accordance with sections 751(a)(1)(B) and 777(i)(1) of the Act and 19 CFR 351.221(b)(4).

Dated: December 28, 2022.
Ryan Majerus,
Deputy Assistant Secretary for Policy and Negotiations.

Appendix I—Scope of the Order

The scope of the Order includes certain frozen warmwater shrimp and prawns, whether wild-caught (ocean harvested) or farm-raised (produced by aquaculture), head-on or head-off, shell-on or peeled, tail-on or tail-off,³⁰ deveined or not deveined, cooked or raw, or otherwise processed in frozen form.

³⁰ “Tails” in this context means the tail fan, which includes the telson and the uropods.

The frozen warmwater shrimp and prawn products included in the scope of the Order, regardless of definitions in the HTS, are products which are processed from warmwater shrimp and prawns through freezing and which are sold in any count-size.

The products described above may be processed from any species of warmwater shrimp and prawns. Warmwater shrimp and prawns are generally classified in, but are not limited to, the Penaeidae family. Some examples of the farmed and wild-caught warmwater species include, but are not limited to, white-leg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of the Order. In addition, food preparations, which are not “prepared meals,” that contain more than 20 percent by weight of shrimp or prawn are also included in the scope of the Order.

Excluded from the scope are: (1) breaded shrimp and prawns (HTS subheading 1605.20.10.20); (2) shrimp and prawns generally classified in the Pandalidae family and commonly referred to as coldwater shrimp, in any state of processing; (3) fresh shrimp and prawns whether shell-on or peeled (HTS subheadings 0306.23.00.20 and 0306.23.00.40); (4) shrimp and prawns in prepared meals (HTS subheading 1605.20.05.10); (5) dried shrimp and prawns; (6) canned warmwater shrimp and prawns (HTS subheading 1605.20.10.40); and (7) certain battered shrimp. Battered shrimp is a shrimp-based product: (1) that is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (IQF) freezing immediately after application of the dusting layer. When dusted in accordance with the definition of dusting above, the battered shrimp product is also coated with a wet viscous layer containing egg and/or milk, and par-fried.

The products covered by this Order are currently classified under the following HTS subheadings: 0306.17.0004, 0306.17.0005, 0306.17.0007, 0306.17.0008, 0306.17.0010, 0306.17.0011, 0306.17.0013, 0306.17.0014, 0306.17.0016, 0306.17.0017, 0306.17.0019, 0306.17.0020, 0306.17.0022, 0306.17.0023, 0306.17.0025, 0306.17.0026, 0306.17.0028, 0306.17.0029, 0306.17.0041, 0306.17.0042, 1605.21.10.30, and 1605.29.10.10. These HTS subheadings are provided for convenience and for customs purposes only and are not dispositive, but rather the written description of the scope of this Order is dispositive.³¹

³¹ On April 26, 2011, Commerce amended the antidumping duty order to include dusted shrimp, pursuant to the U.S. Court of International Trade (CIT) decision in Ad Hoc Shrimp Trade Action Committee v. United States, 703 F. Supp. 2d 1330 (CIT 2010) and the U.S. International Trade Commission (ITC) determination, which found the domestic like product to include dusted shrimp. See Certain Frozen Warmwater Shrimp from Brazil, India, the People's Republic of China, Thailand, and the Socialist Republic of Vietnam: Amended Antidumping Duty Orders in Accordance with Final Court Decision, 76 FR 23277 (April 26, 2011); see also Ad Hoc Shrimp Trade Action Committee v. United States, 703 F. Supp. 2d 1330 (CIT 2010); and Frozen Warmwater Shrimp from Brazil, China, India, Thailand, and Vietnam, Inv. Nos. 731-TA-1063, 1064, 1066-1068 (Review), USITC Publication 4221 (March 2011).

Appendix II—Companies Under Review Determined To Be Part of the Vietnam-Wide Entity

1. Amanda Seafood Co., Ltd.

2. An Nguyen Investment Production and Group

3. Anh Khoa Seafood

4. Anh Minh Quan Corp.

5. APT Co.

6. Au Vung One Seafood

7. Binh Dong Fisheries Joint Stock Company

8. Binh Thuan Import-Export Joint Stock Company

9. Blue Bay Seafood Co., Ltd.

10. Cadovimex

11. Cadovimex II Seafood Import Export and Processing Joint Stock Company

12. Cadovimex Seafood Import-Export and Processing Joint Stock Company

13. Cantho Import Export Seafood Joint Stock Company

14. Caseamex

15. CJ Cau Tre Foods Joint Stock Company

16. Coastal Fisheries Development Corporation

17. COFIDEC

18. Danang Seafood Import Export

19. Danang Seaproducts Import-Export Corporation

20. Dong Hai Seafood Limited Company

21. Dong Phuong Seafood Co., Ltd.

22. Duc Cuong Seafood Trading Co., Ltd.

23. Duong Hung Seafood

24. FFC

25. Fine Foods Company

26. Gallant Dachan Seafood Co., Ltd.

27. Gallant Ocean (Vietnam) Co. Ltd.

28. Go Dang Joint Stock Company

29. GODACO Seafood

30. Green Farms Seafood Joint Stock Company

31. Hanh An Trading Service Co., Ltd.

32. Hong Ngoc Seafood Co., Ltd.

33. Hung Bang Company Limited

34. Hung Dong Investment Service Trading Co., Ltd.

35. HungHau Agricultural Joint Stock Company

36. JK Fish Co., Ltd.

37. Khanh Hoa Seafoods Exporting Company

38. KHASPEXCO

39. Long Toan Frozen Aquatic Products Joint Stock Company

40. MC Seafood

41. Minh Bach Seafood Company Limited

42. Minh Cuong Seafood Import Export Processing Joint Stock Company

43. Nam Viet Seafood Import Export Joint Stock Company

44. Namcan Seaproducts Import Export Joint Stock Company

45. New Generation Seafood Joint Stock Company

46. New Wind Seafood Co., Ltd.

47. Ngoc Trinh Bac Lieu Seafood Co., Ltd.

48. Nguyen Chi Aquatic Product Trading Company Limited

49. Nhat Duc Co., Ltd.

50. Nigico Co., Ltd.

51. Phuong Nam Foodstuff Corp.

52. Quang Minh Seafood Co., Ltd.

53. QAIMEXCO

54. Quoc Ai Seafood Processing Import Export Co., Ltd.

55. Quoc Toan PTE

56. Quoc Toan Seafood Processing Factory

57. Quy Nhon Frozen Seafoods Joint Stock Company

58. Safe and Fresh Aquatic Products Joint Stock Company

59. Safe and Fresh Co.

60. Saigon Aquatic Product Trading Joint Stock Company

61. Saigon Food Joint Stock Company

62. SEADANANG

63. Seafood Joint Stock Company No. 4

64. Seafood Travel Construction Import-Export Joint Stock Company

65. Seanamico

66. Seaspimex Vietnam

67. South Ha Tinh Seaproducts Import-Export Joint Stock Company

68. South Vina Shrimp-SVS

69. Southern Shrimp Joint Stock Company

70. Special Aquatic Products Joint Stock Company

71. T & P Seafood Company Limited

72. Tai Nguyen Seafood Co., Ltd.

73. Tan Phong Phu Seafood Co., Ltd.

74. Tan Thanh Loi Frozen Food Co., Ltd.

75. THADIMEXCO

76. Thai Hoa Foods Joint Stock Company

77. Thai Minh Long Seafood Company Limited

78. Thaimex

79. Thanh Doan Fisheries Import-Export Joint Stock Company

80. Thanh Doan Sea Products Import & Export Processing Joint-Stock Company

81. Thanh Doan Seafood Import Export Trading Joint-Stock Company

82. The Light Seafood Company Limited

83. Thien Phu Export Seafood

84. Thinh Hung Co., Ltd.

85. Thinh Phu Aquatic Products Trading Co., Ltd.

86. TPP Co. Ltd.

87. Trading and Import-Export Co., Ltd.

88. Trang Corporation (Vietnam)

89. Trung Son Seafood Processing Joint Stock Company

90. Van Duc Food Company Limited

91. Viet Phu Foods and Fish Corp.

92. Viet Shrimp Corporation

93. VIFAFOOD

94. Vinh Hoan Corp.

95. Vinh Phat Food Joint Stock Company

96. XNK Thinh Phat Processing Company

[FR Doc. 2022-28521 Filed 12-30-22; 8:45 am]

BILLING CODE 3510-DS-P